DEPARTMENT OF COMMERCE

National Oceanic and Atmospheric Administration

50 CFR Part 622

[Docket No. 231101-0256]

RIN 0648-BM12

Fisheries of the Caribbean, Gulf of Mexico, and South Atlantic; Snapper-Grouper Fishery of the South Atlantic; Amendment 52

AGENCY: National Marine Fisheries Service (NMFS), National Oceanic and Atmospheric Administration (NOAA), Commerce.

ACTION: Final rule.

SUMMARY: NMFS issues regulations to implement Amendment 52 to the Fishery Management Plan for the Snapper-Grouper Fishery of the South Atlantic (FMP), as submitted by the South Atlantic Fishery Management Council (the Council). For golden tilefish, this final rule revises the annual catch limits (ACLs), commercial longline component fishing season, and recreational accountability measures (AMs). For blueline tilefish, this final rule reduces the recreational bag limit, modifies the possession limits, and revises the recreational AMs. In addition, Amendment 52 updates the acceptable biological catch (ABC), overfishing limit (OFL), and annual optimum yield (OY). The purpose of this final rule and Amendment 52 is to respond to the most recent stock assessment for golden tilefish, and to prevent recreational landings from exceeding the recreational ACLs for golden tilefish and blueline tilefish.

DATES: This final rule is effective December 7, 2023.

ADDRESSES: Electronic copies of Amendment 52, which includes a fishery impact statement and a regulatory impact review, may be obtained from the Southeast Regional Office website at https://www.fisheries.noaa.gov/action/amendment-52-changes-catch-levels-allocations-accountability-measures-and-management.

FOR FURTHER INFORMATION CONTACT: Karla Gore, telephone: 727-824-5305, or email: karla.gore@noaa.gov.

SUPPLEMENTARY INFORMATION: The South Atlantic snapper-grouper fishery, which includes golden tilefish and blueline tilefish, is managed under the FMP. The FMP was developed by the Council and implemented through regulations at 50 CFR part 622 under the authority of the Magnuson-Stevens Fishery Conservation and Management Act (Magnuson-Stevens Act).

Background

The Magnuson-Stevens Act requires that NMFS and the regional fishery management councils prevent overfishing and achieve, on a continuing basis, the OY from federally managed fish stocks. These mandates are intended to ensure that fishery resources are managed for the greatest overall benefit to the Nation, particularly with respect to providing food production and recreational opportunities, and protecting marine ecosystems. To further this goal, the Magnuson-Stevens Act requires fishery managers to minimize bycatch and bycatch mortality to the extent practicable.

On August 3, 2023, NMFS published a notice of availability for Amendment 52 and requested public comment (88 FR 51255). On August 24, 2023, NMFS published a proposed rule for Amendment 52 and requested public comment (88 FR 57916). NMFS approved Amendment 52 on October 30, 2023. The proposed rule and Amendment 52 outline the rationale for the actions contained in this final rule. A summary of the management measures described in Amendment 52 and implemented by this final rule is provided below.

All weights described in this final rule are in gutted weight unless otherwise specified.

The South Atlantic stock of golden tilefish was first assessed through the Southeast Data, Assessment, and Review (SEDAR) process in 2004 (SEDAR 4). In response to the assessment, the Council submitted management measures in Amendment 13C to the FMP. The final rule to implement Amendment 13C specified a commercial quota for golden tilefish of 295,000 lb. (133,810 kg); a commercial trip limit for golden tilefish of 4,000 lb (1,814 kg), and, if 75 percent of the quota is landed on or before September 1, then a reduction of the trip limit to 300 lb (136 kg); and a recreational bag limit of one golden tilefish per person per day included within the five-grouper aggregate bag limit (71 FR 55096, September 21, 2006). The Council submitted sector allocations for golden tilefish in Amendment 17B to the FMP, allocating 97 percent of the ACL to the commercial sector and 3 percent of the ACL to the recreational sector. In addition, for golden tilefish, the final rule for Amendment 17B specified: a total ACL of 291,566 lb (132,252 kg), a commercial ACL of 282,819 lb (128,285 kg), and a recreational ACL of 1,578 fish; commercial and recreational AMs; and a longline endorsement for the commercial component of golden tilefish (75 FR 82280, December 30, 2010).

In 2011, a new stock assessment was completed for golden tilefish (SEDAR 25 2011) and the Council submitted Regulatory Amendment 12 to the FMP in response to the assessment. In the final rule for Regulatory Amendment 12, the total ACL was set at 558,036 lb. (253,121 kg), the existing allocations were applied to revise the sector ACLs to 541,295 lb (245,527 kg) for the commercial sector and 3,019 fish for the recreational sector, and the recreational annual catch target and sector AMs were revised (77 FR 61295, October 9, 2012). In Amendment 18B to the FMP, the golden tilefish commercial ACL was divided between two commercial fishing gear components, assigning 75 percent of the ACL to the longline component with a 4,000 lb (1,814 kg) trip limit and 25 percent of the ACL to the hook-and-line component with a 500 lb (227 kg) trip limit (78 FR 23858, April 23, 2013).

In 2016, an update to the SEDAR 25 stock assessment indicated that golden tilefish were undergoing overfishing (SEDAR 25 Update 2016). Following two interim rules that took action to reduce overfishing (83 FR 65, January 2, 2018; 83 FR 28387, June 19, 2018), the final rule for Regulatory Amendment 28 to the FMP implemented long-term measures that reduced the golden tilefish ACLs. The existing allocations were applied to revise the sector ACLs to 331,740 lb (150,475 kg) for the commercial sector (further divided with 75 percent to the longline component and 25 percent to the hook-and-line component) and 2,316 fish for the recreational sector (83 FR 62508, December 4, 2018).

The Council submitted Amendment 52 in response to a new stock assessment for golden tilefish. The new assessment, SEDAR 66, was completed in 2020 and it indicated that the stock was not undergoing overfishing and was not overfished. SEDAR 66 includes recreational landings estimates using the Marine Recreational Information Program (MRIP) Fishing Effort Survey (FES) as discussed below. The revised catch levels recommended by the Council in Amendment 52 and in this final rule are based on their Scientific and Statistical Committee's (SSC) recommended ABC and the results of SEDAR 66. The Council received the results of the assessment and the SSC's recommendations for the OFL and ABC at the June 2021 Council meeting.

In response to golden tilefish commercial longline vessel fishermen's concerns about avoiding oversupplying the market in the first part of January and allowing such vessels to remain fishing for golden tilefish during the Lenten season when prices tend to be relatively high, this final rule changes the starting date of the fishing season for the commercial longline component from January 1st to January 15th.

For blueline tilefish managed under the FMP, recreational landings exceeded the recreational ACL every year from 2015-2020. Revising certain management measures for blueline tilefish is expected to help keep the recreational sector within its ACL. The most recent stock assessments for blueline tilefish were completed in 2017 and did not indicate that the stock was undergoing overfishing or was being overfished.

The Council and NMFS intend that the actions in Amendment 52 and this final will achieve OY while minimizing, to the extent practicable, adverse social and economic effects.

Management Measures Contained in This Final Rule

For golden tilefish, this final rule revises the sector ACLs, commercial component quotas, commercial longline component fishing season, and recreational AMs. For blueline tilefish, this final rule revises the recreational bag and possession limits and recreational AMs.

Golden Tilefish Total ACL

As implemented through Regulatory Amendment 28 to the FMP, the current total ACL and annual OY for golden tilefish are equal to the current ABC of 342,000 lb. (155,129 kg.) (83 FR 62508, December 4, 2018). In Amendment 52, the ABC is revised based on SEDAR 66 and the recommendation of the SSC, and the ABC, ACL, and annual OY is set equal to each of these values.

Amendment 52 revises the total ACL and annual OY equal to the recommended ABC of 435,000 lb (197,313 kg) for 2023; 448,000 lb (203,209 kg) for 2024; 458,000 lb (207,745 kg) for 2025; 466,000 lb (211,374 kg) for 2026 and subsequent fishing years.

Golden Tilefish Sector Allocations and ACLs

Amendment 52 revises the sector allocations and this final rule revises the sector ACLs for golden tilefish. The current sector ACLs for golden tilefish are based on the commercial and recreational allocations of the total ACL at 97 percent and 3 percent, respectively. The current allocations are based on the allocation formula [ACL = ((mean landings 2006-2008) * 0.5)) + ((mean landings 1986-2008) * 0.5))] adopted by the Council in the Comprehensive ACL Amendment to the FMP, which considered past and present participation (77 FR 15915, March 16, 2012). The Council established those allocations based on balancing long-term catch history with more recent catch history and believed that approach to be a fair and equitable method to allocate fishery resources.

The revised golden tilefish sector allocations in Amendment 52 result in commercial and recreational allocations of 96.70 percent and 3.30 percent, respectively. The revised sector allocations were determined by applying the allocation formula (described above) to the recreational MRIP FES estimates used in SEDAR 66. Utilizing these revised recreational estimates results in a slight shift of allocation to the recreational sector, with the percentages of annual catch increasing from the current 3 percent to the revised 3.30 percent. The limited recreational effort for, and harvest of, golden tilefish, were considered in determining that allocating 3.30 percent of the revised total ACL for golden tilefish to the recreational sector is a fair and equitable allocation that is reasonably calculated to promote conservation and does not give any entity an excessive share of harvest privileges based on the historical and current harvest of golden tilefish. In addition, this allocation division will encourage a rational and well-managed use of the golden tilefish resource, which optimizes social and economic benefits.

This final rule revises the commercial ACLs (commercial sector hook-and-line and longline components combined) to 420,645 lb (190,801 kg) for 2023; 433,216 lb (196,503 kg) for 2024; 442,886 lb (200,890 kg) for 2025; and 450,622 lb (204,399 kg) for the 2026 and subsequent fishing years.

This final rule revises the recreational ACLs (in numbers of fish) to 2,559 for the 2023 fishing year; 2,635 for the 2024 fishing year; 2,694 for the 2025 fishing year; 2,741 for the 2026 and subsequent fishing years.

Golden Tilefish Commercial Component Allocations

As discussed above, the commercial ACL is allocated between two gear components: 25 percent is allocated to the hook-and-line component and 75 percent to the longline component (77 FR 23858, April 23, 2013). The allocation percentages between the hook-and-line and longline components were not modified in Amendment 52. However, this final rule revises the hook-and-line and longline component ACLs (quotas) based on the revised commercial ACL. The commercial hook-and-line ACL is 105,161 lb (47,700 kg) for 2023; 108,304 lb (49,126 kg) for 2024; 110,722 lb (50,223 kg) for 2025; and 112,656 lb (51,100 kg) for 2026 and subsequent fishing years.

The ACLs for the longline component are 315,484 lb (143,101 kg) for 2023; 324,912 lb (147,378 kg) for 2024; 332,165 lb (150,668 kg) for 2025; and 337,967 lb (153,299 kg) for the 2026 and subsequent fishing years.

Golden Tilefish Commercial Longline Component Fishing Season

This final rule changes the start date for the fishing season for the commercial longline component from January 1st to January 15th. A closed season will be established for the commercial longline component annually from January 1 through January 14. Starting the commercial season on January 15th for the longline component will help to avoid oversupplying the market in the first part of January and should allow commercial longline vessels to remain fishing for golden tilefish during the Lenten season when prices tend to be relatively high.

Blueline Tilefish Recreational Bag and Possession Limits

In August 2016, Regulatory Amendment 25 to the FMP established the current recreational bag limit of three fish per person per day (81 FR 45245, July 13, 2016). As discussed above, recreational landings for blueline tilefish have exceeded the recreational ACL every year from 2015-2020. This final rule reduces the recreational bag limit for blueline tilefish from three to two fish per person per day to help prevent recreational landings from exceeding the recreational ACL in future fishing years.

Additionally, the captain and crew of a for-hire vessel with a valid Federal South Atlantic Charter/Headboat Snapper-Grouper Permit are currently allowed to retain bag limit quantities of all snapper-grouper species during the open recreational season. In addition to reducing the recreational bag and possession limits to two fish per person per day, this final rule prohibits the retention of blueline tilefish by the captain and crew. A bag limit of two blueline tilefish per person per day and prohibiting retention of the bag limit by captain and crew will result in an overall 12.2 percent reduction in harvest for the recreational sector. The measures to reduce the blueline tilefish bag limit from three to two fish per person per day and prohibit the retention of the bag limit by for-hire captain and crew will, in combination, be expected to keep the recreational landings of blueline tilefish within the recreational ACL.

Golden Tilefish and Blueline Tilefish Recreational AMs

This final rule also revises the recreational AMs for golden tilefish and blueline tilefish. The current recreational AMs for golden tilefish were established through the final rule for Amendment 34 to the FMP (81 FR 3731, January 22, 2016). The current recreational AMs for blueline tilefish were established through the final rule for Amendment 32 to the FMP (80 FR 16583, March 30, 2015). The current AMs for both species include an in-season closure for the remainder of the fishing year if recreational landings reach or are projected to reach their respective recreational ACL. The current post-season AMs state that if the recreational ACL is exceeded, then during the following fishing year recreational landings will be monitored for a persistence in increased landings. Additionally, during that following fishing year, if the total ACL is exceeded and the species is overfished, the length of the recreational fishing season is reduced and the recreational ACL is reduced by the amount of the recreational ACL overage.

This final rule revises the recreational AMs for both golden tilefish and blueline tilefish to remove the current in-season closure if the recreational ACL is reached or is projected to be reached, and the post-season AM that is tied to the overfished status of the stock. The revised recreational AM will have NMFS projecting the length of the recreational season based on catch rates from the previous fishing year to determine when the recreational ACL would be expected to be met. NMFS will announce the length of the recreational season and its ending date annually in the Federal Register.

The current AMs are being revised because of the delayed availability of recreational landings information to use for in-season actions for species with short fishing seasons or relatively small amounts of fish. For blueline tilefish, the current recreational fishing season is 4 months long, from May through August, and the recreational ACL for golden tilefish is 2,316 fish. In these circumstances, the current in-season AMs will not be effective in keeping landings from exceeding the recreational ACL. As previously discussed, the recreational landings for blueline tilefish exceeded the recreational ACL every year from 2015-2020. The golden tilefish recreational ACL has also frequently been exceeded, with the recreational sector exceeding its ACL every year since 2010, except for 2014 and 2017.

The current post-season recreational AMs that would apply corrective action for ACL overages were not being triggered because they were tied to a determination that the stock was overfished, and neither blueline nor golden tilefish is considered to be overfished. Consequently, any overages of the recreational ACL would be likely to continue to occur.

In addition, the Magnuson-Stevens Act Guidelines under National Standard 1 advise Councils to reevaluate the system of ACLs and AMs when overages of a stock's ACL occur more than once in 4 consecutive years. The purpose of the revised AMs is to prevent recreational landings from exceeding the respective recreational ACLs for both golden tilefish and blueline tilefish. The revised recreational AMs will be more effective at restraining landings to the recreational ACL. For blueline tilefish, Amendment 52 will both modify the recreational AM and reduce the recreational retention limit to further ensure recreational landings will not exceed the ACL. Amendment 52 and this final rule do not adjust the commercial AMs for either species.

Management Measures in Amendment 52 Not Codified by This Final Rule

In addition to the measures within this final rule, Amendment 52 revises the OFL and updates other biological reference points and revises the ABC, OY, and sector allocations for golden tilefish.

Golden Tilefish ABC and Annual OY

The current OFL and ABC are inclusive of MRIP Coastal Household Telephone Survey (CHTS) estimates of private recreational and charter landings. The Council's SSC reviewed the latest stock assessment (SEDAR 66) and recommended new ABC levels as determined by SEDAR 66. The assessment and associated ABC recommendations incorporated the revised estimates for recreational catch and effort from the MRIP Access Point Angler Intercept Survey (APAIS) and the updated FES. MRIP began incorporating a new survey design for APAIS in 2013 and replaced the CHTS with FES in 2018. Prior to the implementation of MRIP in 2008, recreational landings estimates were generated using the Marine Recreational Fisheries Statistics Survey (MRFSS). As explained in Amendment 52, total recreational fishing effort estimates generated from MRIP FES are generally higher than both the MRFSS and MRIP CHTS estimates. This difference in estimates is because MRIP FES is designed to measure fishing activity more accurately and not because there was a sudden increase in fishing effort. The MRIP FES is considered a more reliable estimate of recreational effort by the Council's SSC, the Council, and NMFS, and is a more robust method when compared to the MRIP CHTS method. The new ABC recommendations within Amendment 52 also represent the best scientific information available as determined by the SSC.

The OY for golden tilefish will be specified on an annual basis and will be set equal to the ABC and total ACL in accordance with the guidance provided in the Magnuson-Stevens Act National Standard 1 Guidelines at 50 CFR 600.310(f)(4)(iv).

Comments and Reponses

NMFS received 11 comment submissions from individuals on the amendment and proposed rule for Amendment 52. Three comments were in support of the actions in Amendment 52, and NMFS agrees with those comments. Comments received that were outside the scope of the actions in Amendment 52 and the proposed rule included comments on offshore wind development and are not responded to in this final rule. Comments that opposed the actions in Amendment 52 and the proposed rule are summarized below, along with NMFS' responses. No changes were made to this final rule as a result of public comment.

Comment 1: The revised allocation of golden tilefish between the commercial and recreational sector is extremely unfair. The commercial sector receives 96.7 percent of the total allocation and the recreational sector only receives 3.30 percent. Consideration should have been given to allocate a greater portion of the total ACL to the recreational sector.

Response: NMFS disagrees that the allocations are unfair. In the golden tilefish fishery, the recreational sector accounts for a fairly constant but small portion of the harvest, given that golden tilefish is a deep-water species that is caught further from shore and in greater depths than most of the other species in the snapper grouper complex. The actions related to golden tilefish in Amendment 52 are responding to the most recent stock assessment for golden tilefish (SEDAR 66), which included the change to MRIP estimates from CHTS units to the new FES units. The recreational landings estimates have been revised to adopt the new FES methodology, and the conversion to FES units did not substantially change historical recreational landings for golden tilefish. However, with the change of MRIP from CHTS units to FES units, the allocation distribution between the commercial and recreational sectors needed to be recalculated based on the revised units. The allocation percentages were previously calculated by applying the formula: sector annual catch limit = ((mean landings 2006-2008) * 0.5)) + ((mean landings 1986-2008) * 0.5). When the same allocation formula is applied using the new MRIP-FES data, the recreational allocation increases from 3 to 3.30 percent. The Council also considered the effects of the new catch limits, along with estimates of the commercial and recreational sectors' economic impacts, as measured by full-time equivalent jobs, income, value-added, and sales, as part of the allocation decision in Amendment 52. Considering the limited recreational effort for, and harvest of, golden tilefish, NMFS has determined that allocating 3.30 percent of the revised total ACL for golden tilefish to the recreational sector is a fair and equitable allocation that is reasonably calculated to promote conservation, and that does not give any entity an excessive share of harvest privileges, based on the historical and current harvest of golden tilefish. This allocation division encourages a rational and well-managed use of the golden tilefish resource.

Comment 2: Recreational fishermen spend a significant amount of money on vessels, fuel, and gear to harvest golden tilefish and this should result in a greater allocation of the golden tilefish total ACL to the recreational sector. Also, a lower recreational allocation leads to shorter recreational seasons.

Response: Although recreational fishing expenditures are meaningful to the estimation of economic impacts and the distribution of those impacts regionally and by industry, they are not, on their own, a measure of net economic benefits. NMFS conducted a cost-benefit analysis for Amendment 52 that examined the effects of the new catch limits and allocation and provided an estimate of the change in net economic benefits resulting from the actions in Amendment 52. This information, along with estimates of the commercial and recreational sectors' economic impacts, were considered as part of the allocation decision in Amendment 52. Further, the recreational allocation is actually increased by a small amount in Amendment 52 compared to the status quo. The selected sector allocation in Amendment 52 is expected to generate positive net economic benefits in the recreational sector relative to the current sector allocation.

As previously explained, the final rule increases, rather than decreases, the recreational allocation and ACL. NMFS notes that this final rule removes the current inseason recreational closure based on the recreational ACL being reached or projected to be reached. Instead, the new recreational AM will have NMFS annually announce the length of the recreational fishing season based on catch rates from the previous season. The fishing season will start on January 1 and end on the date NMFS projects the recreational ACL will be met. Within Amendment 52, this recreational AM was determined to provide the most biological benefits to the stock by being the most likely to prevent recreational ACL overages. While the recreational season end date for golden tilefish may shift each year, announcing the length of the season at the beginning of the season would allow private anglers and for-hire businesses to plan their activities around the seasonal closure in advance.

Comment 3: Adequate opportunities need to be provided for fishermen to express their views and concerns on the proposed actions through public hearings, surveys, interviews, focus groups, or other appropriate methods, specifically with regard to sector allocation.

Response: NMFS agrees that opportunity for public comment is important during the development of an FMP amendment and specifically for Amendment 52. At its June 2021 meeting, the Council received the results of SEDAR 66 and the SSC's recommendations for the overfishing limit and ABC. While the Council then developed Amendment 52 during 2021 and 2022, the public had opportunities to comment on the actions in Amendment 52 during the Council scoping process, during public hearings and Snapper Grouper Advisory Panel meetings, as well as during the Council meetings. A summary of the public comments received are included in Chapter 5 of the amendment, and all comments from the public were reviewed by the Council prior to its final action on Amendment 52. In addition, NMFS has also reviewed all public comments received on the notice of availability for Amendment 52 that was published in the Federal Register on August 8, 2023, with the public comment period open through October 2, 2023, and all public comments received on the proposed rule for Amendment 52 that was published in the Federal Register on August 23, 2023, with the public comment period open through September 25, 2023.

Therefore, consistent with the Magnuson-Stevens Act and other applicable law, NMFS has determined that fishermen and other members of the public have had numerous opportunities to review the actions in Amendment 52, including sector allocations, and provide comment.

Comment 4: The rule should incorporate the best available science on climate change and its effects on the snapper-grouper fishery. The Council should develop adaptive management strategies to cope with the uncertainty and variability of the future climate conditions.

Response: NMFS has determined that Amendment 52 contains the best scientific information available, consistent with the Magnuson-Stevens Act. Within Amendment 52, Chapter 6 addresses the cumulative impacts of the actions in the amendment and includes a summary of known or possible climate change impacts in the South Atlantic region. As described in Amendment 52, climate change may impact snapper-grouper species in the future, but the level of impacts cannot be quantified at this time, nor is the time frame known in which these impacts would occur.

Comment 5: Amendment 52 should revise the existing section on the social impact assessment to include more comprehensive and inclusive criteria that capture the diverse values and preferences of the fishermen and fishing communities, including subsistence and traditional fishermen.

Response: Data are not readily available on values and preferences of fishermen and fishing communities. However, NMFS conducted a social impact assessment using the best scientific information available, which is included in Amendment 52. The social impact assessment in Amendment 52 includes the social environment, environmental justice, and social effects sections of the document. These sections within Chapters 3 and 4 of Amendment 52 include a description of the social characteristics of the fishery; community level data on fishing participants, community quotient-fishing landings and value (i.e., the share of each community's landings and ex-vessel values divided by the landings and values for the region), local quotient (i.e., the proportion of a community's commercial landings for a given species relative to commercial landings of all species by persons affiliated with that community during a given time period), fishing engagement and reliance, and social vulnerability indicators. In addition, within the discussion for each specific action in Amendment 52, the sections contain an analysis and description of the likely social changes due to the alternatives under consideration along with an evaluation of the potential social effects of the proposed actions in comparison to the status quo. As explained in the Response to Comment 3, snapper-grouper fishermen's and stakeholders' perspectives and input are gathered through the scoping and public comment process and were utilized in the evaluation and determination of social effects contained in Amendment 52. NMFS has determined that social impact assessment in Amendment 52 meets the requirements of the Magnuson-Stevens Act and other applicable law.

Classification

Pursuant to section 304(b)(3) of the Magnuson-Stevens Act, the NMFS Assistant Administrator has determined that this final rule is consistent with Amendment 52, the FMP, other provisions of the Magnuson-Stevens Act, the U.S. Constitution, and other applicable law.

This final rule has been determined to be not significant for purposes of Executive Order 12866.

The Magnuson-Stevens Act provides the legal basis for this proposed rule. No duplicative, overlapping, or conflicting Federal rules have been identified.

A description of this final rule, why it is being considered, and the purpose of this final rule are contained in the SUMMARY and SUPPLEMENTARY INFORMATION sections of this final rule. The objective of this final rule is to base conservation and management measures for golden and blueline tilefish on the best scientific information available and achieve OY, consistent with the Magnuson-Stevens Act and its National Standards.

The Chief Counsel for Regulation of the Department of Commerce certified to the Chief Counsel for Advocacy of the Small Business Administration (SBA) during the proposed rule stage that this action would not have a significant economic impact on a substantial number of small entities. The factual basis for the certification was published in the proposed rule and is not repeated here. NMFS did not receive any comments from SBA's Office of Advocacy or the public regarding the certification in the proposed rule. As a result, a final regulatory flexibility analysis was not required and none was prepared.

This final rule contains no information collection requirements under the Paperwork Reduction Act of 1995.

List of Subjects in 50 CFR Part 622

Blueline tilefish, Commercial, Fisheries, Fishing, Golden tilefish, Recreational, South Atlantic.

Dated: November 1, 2023.
Samuel D. Rauch, III,
Deputy Assistant Administrator for Regulatory Programs, National Marine Fisheries Service.

For the reasons set out in the preamble, NMFS amends 50 CFR part 622 as follows:

PART 622—FISHERIES OF THE CARIBBEAN, GULF OF MEXICO, AND SOUTH ATLANTIC

1. The authority citation for part 622 continues to read as follows:

Authority: 16 U.S.C. 1801 et seq.

2. In § 622.183, add paragraph (b)(11) to read as follows:

§ 622.183 Area and seasonal closures.

* * * * *

(b) * * *

(11) Golden tilefish commercial longline component. The golden tilefish commercial longline component in or from the South Atlantic EEZ is closed from January 1 through January 14, each year. During a closure, no vessel with a valid or renewable golden tilefish longline endorsement as described at 50 CFR 622.191(a)(2)(ii), and no person, may fish for, harvest, or possess golden tilefish from the South Atlantic EEZ with longline gear on board.

3. In § 622.187, add paragraph (b)(2)(iv) to read as follows:

§ 622.187 Bag and possession limits.

* * * * *

(b) * * *

(2) * * *

(iv) No more than two fish may be blueline tilefish. However, no blueline tilefish may be retained by the captain or crew of a vessel operating as a charter vessel or headboat. The bag limit for such captain and crew is zero.

* * * * *

4. In § 622.190, revise paragraph (a)(2) to read as follows:

§ 622.190 Quotas.

* * * * *

(a) * * *

(2) Golden tilefish—(i) Commercial sector (hook-and-line and longline components combined). (A) For the 2023 fishing year—420,645 lb (190,801 kg).

(B) For the 2024 fishing year—433,216 lb (196,503 kg).

(C) For the 2025 fishing year—442,886 lb (200,890 kg).

(D) For the 2026 and subsequent fishing years—450,622 lb (204,399 kg).

(ii) Hook-and-line component. (A) For the 2023 fishing year—105,161 lb (47,700 kg).

(B) For the 2024 fishing year—108,304 lb (49,126 kg).

(C) For the 2025 fishing year—110,722 lb (50,223 kg).

(D) For the 2026 and subsequent fishing years—112,656 lb (51,100 kg).

(iii) Longline component. (A) For the 2023 fishing year—315,484 lb (143,101 kg).

(B) For the 2024 fishing year—324,912 lb (147,378 kg).

(C) For the 2025 fishing year—332,165 lb (150,668 kg).

(D) For the 2026 and subsequent fishing years—337,967 lb (153,299 kg).

* * * * *

5. Amend § 622.193 by revising paragraphs (a)(1)(iii) and (a)(2), adding paragraph (a)(3), and revising paragraph (z)(2) to read as follows:

§ 622.193 Annual catch limits (ACLs) and accountability measures (AMs).

(a) * * *

(1) * * *

(iii) If all commercial landings of golden tilefish, as estimated by the SRD, exceed the commercial ACL (including both the hook-and-line and longline component quotas) specified in § 622.190(a)(2)(i), and the combined commercial and recreational ACL specified in paragraph (a)(3) of this section is exceeded during the same fishing year, and golden tilefish are overfished based on the most recent Status of U.S. Fisheries Report to Congress, the AA will file a notification with the Office of the Federal Register to reduce the commercial ACL for that following fishing year by the amount of the commercial ACL overage in the prior fishing year.

(2) Recreational sector. The recreational ACL for golden tilefish is 2,559 fish for the 2023 fishing year; 2,635 fish for the 2024 fishing year; 2,694 for the 2025 fishing year; 2,741 fish for the 2026 and subsequent fishing years. NMFS will project the length of the recreational fishing season based on catch rates from the previous fishing year and when NMFS projects the recreational ACL specified in this paragraph (a)(2) is expected to be met, and annually announce the recreational fishing season end date in the Federal Register. On and after the effective date of the recreational closure notification, the bag and possession limit for golden tilefish in or from the South Atlantic EEZ is zero.

(3) Combined commercial and recreational ACL. The combined commercial and recreational ACL is 435,000 lb (197,313 kg), gutted weight, for the 2023 fishing year; 448,000 lb (203,209 kg), gutted weight, for the 2024 fishing year; 458,000 lb (207,745 kg), gutted weight, for the 2025 fishing year; and 466,000 lb (211,374 kg), gutted weight, for the 2026 and subsequent fishing years.

* * * * *

(z) * * *

(2) Recreational sector. The recreational ACL for blueline tilefish is 116,820 lb (52,989 kg), round weight. NMFS will project the length of the recreational fishing season based on catch rates from the previous fishing year and when NMFS projects the recreational ACL specified in this paragraph (z)(2) is expected to be met, and annually announce the recreational fishing season end date in the Federal Register. On and after the effective date of the recreational closure notification, the bag and possession limit for blueline tilefish in or from the South Atlantic EEZ is zero.

* * * * *

[FR Doc. 2023-24468 Filed 11-6-23; 8:45 am]

BILLING CODE 3510-22-P